DEPARTMENT OF DEFENSE

Office of the Secretary

Proposed Collection; Comment Request

AGENCY: DoD, Office of the Assistant Secretary of Defense, Command, Control, Communication and Intelligence—Defense Security Service.

ACTION: Notice.

SUMMARY: In compliance with section 3506(c)(2)(A) of the Paperwork Reduction Act of 1995, the Office of the Assistant Secretary of Defense for Command, Control, Communication and Intelligence—announces a proposed new public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 14, 2001.

ADDRESSES: Written comments and recommendations on the proposed information collection should be sent to the Defense Security Service (DSS), Planning & Programming, ATTN: Ms. Stephanie Greene, Alexandria, VA 22314-1651.

FOR FURTHER INFORMATION CONTACT: To request more information on this proposed information collection or to obtain a copy of the proposal and associated collection instruments, please write to the above address, or call DSS, Planning & Programming at (703) 325-4718.

Title and OMB Number: Defense Security Service Customer Satisfaction Survey; OMB No. 0704-[To Be Determined].

Needs and Uses: The purpose of the information collection requirement is to obtain information to ascertain the level of satisfaction private sector industrial and federal users have with the products and services DSS provides. This survey is necessary to meet the requirements of the FY2000-2003 Defense Management Council (DMC) Performance Contract. The DMC Performance Contract requires the Defense Security Service (DSS) to develop and administer customer satisfaction surveys for each of its three primary business areas: the Personnel Security Investigations Program (PSI), the Industrial Security Program (ISP), and the Security Education and Training Program. DSS is also in the process of implementing the Government Performance and Results Act (GPRA) based initiatives, as recommended by GAO, which involves the development of performance measures and metrics as a way to identify and evaluate program outcomes. A key indicator of Agency and program performance is customer satisfaction. Thus, DSS is also conducting this survey to support the GPRA implementation process. Information obtained through this collection will be used for the agency's will be used for the agency's planning and programming processes. Survey will administered on-line via the Internet. Information will be collected and analyzed by the Hay Group.

Affected Public: Private Sector cleared DoD Contractor facilities.

Annual Burden Hours: 2,500 (~2,080 private sector and ~420 Federal & DoD).

Number of Respondents: 6,000 (5,000 private sector and 1,000 Federal & DoD).

Responses per Respondents: 1.

Average Burden per Response: 25 minutes.

Frequency: Biennial.

SUPPLEMENTARY INFORMATION:

Summary of Information Collection

Respondents are private industry and federal users of DSS products and services and who have direct contact with DSS personnel. The new DSS form records customer perceptions of the level of the quality, usefulness and professionalism of the goods and services delivered. The information, which will be collected electronically, will be used for agency and program level planning, programming and budgeting decisions as well as to comply with DoD's Defense Management Counsel, GPRA, and GAO requirements. If the information is not collected, DSS will be missing vital information necessary to plan, program and respond to customer's and DoD's needs well.

Dated: November 5, 2001.
Patricia L. Toppings,
Alternate OSD Federal Register Liaison Officer, Department of Defense.

[FR Doc. 01-28265 Filed 11-9-01; 8:45 am]

BILLING CODE 5001-08-M